DEPARTMENT OF THE TREASURY

Internal Revenue Service

Open Meeting of the Area 6 Taxpayer Advocacy Panel (Including the States of Arizona, Colorado, Idaho, Montana, New Mexico, North Dakota, Oregon, South Dakota, Utah, Washington, and Wyoming)

AGENCY: Internal Revenue Service (IRS) Treasury.

ACTION: Notice of Meeting.

SUMMARY: An open meeting of the Area 6 Taxpayer Advocacy Panel will be conducted. The Taxpayer Advocacy Panel is soliciting public comments, ideas, and suggestions on improving customer service at the Internal Revenue Service.

DATES: The meeting will be held Thursday, April 23, 2009, Friday, April 24, 2009, and Saturday, April 25, 2009.

FOR FURTHER INFORMATION CONTACT: Dave Coffman at 1-888-912-1227 or 206-220-6096

SUPPLEMENTARY INFORMATION: Notice is hereby given pursuant to Section 10(a)(2) of the Federal Advisory Committee Act, 5 U.S.C. App. (1988) that an open meeting of the Area 6 Taxpayer Advocacy Panel will be held Thursday, April 23, 2009 from 1 p.m. to 4:30 p.m., Friday, April 24, 2009 from 8:30 a.m. to 4:30 p.m., and Saturday, April 25, 2009 from 8:30 a.m. to 11:30 a.m. Pacific Time in Seattle, Washington. The public is invited to make oral comments or submit written statements for consideration. Notification of intent to participate must be made with David Coffman. For more information please contact Mr. Coffman at 1-888-912-1227 or 206-220-6096, or write TAP Office, 915 2nd Avenue, MS W-406, Seattle, WA 98174 or post comments to the Web site: http://www.improveirs.org.

The agenda will include various IRS issues.

Dated: March 9, 2009.
Shawn F. Collins,
Acting Director, Taxpayer Advocacy Panel.

[FR Doc. E9-5946 Filed 3-18-09; 8:45 am]

BILLING CODE 4830-01-P